FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011707-005.

Title: Gulf/South America Discussion Agreement.

Parties: Associated Transport Line, LLC; Industrial Maritime Carriers, LLC; Seaboard Marine Ltd. and West Coast Industrial Express, LLC.

Filing Party: Wade S. Hooker, Esq.; 211 Central Park W.; New York, NY 10024.

Synopsis: The amendment would add BBC Chartering & Logistic GMBH & Co. KG as party to the agreement and update the addresses for Associated Transport Line and West Coast Industrial Express and the suite number for Industrial Maritime Carriers.

Agreement No.: 011995-001.

Title: Maersk Line/ELJSA Slot Exchange Agreement.

Parties: A.P. Moller Maersk A/S and the Evergreen Line Joint Service Agreement.

Filing Party: Wayne R. Rohde, Esq.; Sher & Blackwell LLP; 1850 M Street, NW.; Suite 900; Washington, DC 20036.

Synopsis: The agreement adds the Republic of Korea to the geographic scope of the agreement.

Dated: September 21, 2007.
By Order of the Federal Maritime Commission.
Bryant L. VanBrakle,
Secretary.

[FR Doc. E7-18976 Filed 9-25-07; 8:45 am]

BILLING CODE 6730-01-P